ENVIRONMENTAL PROTECTION AGENCY

[FRL-9091-2]

National Lakes Assessment Draft Report

AGENCY: Environmental Protection Agency (EPA).

ACTION: Notice of availability and request for comments.

SUMMARY: Notice is hereby given for a 30-day public review and comment period on the draft report of the National Lakes Assessment (NLA). The National Lakes Assessment draft report describes the results of the nationwide probabilistic lake survey that was conducted in the summer of 2007. EPA and its state/tribal partners looked at the biological, trophic, recreational and habitat conditions in lakes of the conterminous United States. The NLA report includes information on how the survey was implemented, what the findings were on a national and ecoregional scale, implications for resource managers, and future actions and challenges.

DATES: Comments must be received by 11:59 p.m. January 22, 2010.

ADDRESSES: E-mail your comments to lakessurvey@epa.gov.

FOR FURTHER INFORMATION CONTACT: Carol Peterson, Assessment and Watershed Protection Division, Office of Water, Washington, DC; Phone: 202-566-1304; e-mail: peterson.carol@epa.gov.

SUPPLEMENTARY INFORMATION:

To better answer questions about the condition of waters across the country, EPA and its state and tribal partners have embarked on a series of surveys under the National Aquatic Resource Surveys (NARS) program. The program will provide actual data and information vital to understanding water quality conditions across the country and how these conditions vary with geographic setting as well as human and natural influences. NARS program goals are to:

• Generate scientifically valid and environmentally relevant information on the condition of lake resources

• Determine national and regional ecological and recreational well-being of lakes

• Establish baseline information for future trends assessment

• Identify key stressors to lake health and explore the relative importance of these stressors.

The NLA provides unbiased estimates of the condition of natural and man-made freshwater lakes, ponds, and reservoirs greater than 10 acres and at least one meter deep. Using a statistical survey design, lakes were selected at random to represent the condition of the larger population of lakes across the lower 48 states. A total of 1,028 lakes were sampled for the NLA during summer 2007, representing the condition of 50,000 lakes nationwide. The Great Lakes and Great Salt Lake were not included in the survey.

The NLA finds that 56% of the nation's lakes support healthy biological communities when compared to least disturbed sites in similar regions. Another 21% of lakes are in fair condition, and 22% are in poor biological condition. This rating is based on an index of phytoplankton and zooplankton taxa loss—the percentage of taxa observed compared to those that are expected, based on conditions at least disturbed lakes.

The draft report has undergone State and EPA review. EPA, through this public review, is seeking comment on the information contained in the draft report, the reasonableness of the conclusions, and the clarity with which the information is presented. You may view and download the draft report from EPA's Web site at http://www.epa.gov/owow/lakes/lakessurvey.

Dated: December 17, 2009.
Peter S. Silva,
Assistant Administrator for Water.

[FR Doc. E9-30494 Filed 12-22-09; 8:45 am]

BILLING CODE 6560-50-P